DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for June 26-27, 2001, beginning at 8:30 a.m. on June 26. Arrange for oral presentations by June 22.

ADDRESSES: Boeing Commercial Airplane Group, 535 Garden Avenue, N., Building 10-16, Room 11G4, Renton, WA.

FOR FURTHER INFORMATION CONTACT: Effie M. Upshaw, Office of Rulemaking ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. III), notice is given of an ARAC meeting to be held June 27-28, in Renton, WA.

The agenda will include:

June 26

• Opening Remarks

• FAA Report

• Joint Aviation Authorities Report

• Transport Canada Report

• Harmonization Management Team Report

• Executive Committee Report

• Human Factors Harmonization Working Group (HWG) Report

• Seat Test HWG Report

• Design for Security HWG Report

• Ice Protection HWG Report

• Engine HWG Report

• Continued Airworthiness Assessment Methodology Working Group Report

• Flight Test HWG Report

• Electromagnetic Effects HWG Report

• Powerplant Installation HWG Report

• Mechanical Systems HWG Report

• Cargo Standard HWG Report

June 27

• General Structures HWG Report

• Airworthiness Assurance HWG Report

• Extended Range with Two-Engine Aircraft Tasking Update

• Loads & Dynamics HWG Report

• Flight Guidance System HWG Report

• System Design and Analysis HWG Report

• Avionics Systems HWG Report

• Electrical Systems HWG Report

The ARAC is expected to approve the following submittals for forwarding to the FAA:

• Recommendations addressing installation of a primary ice detection systems, or visual cues for recognizing ice accretion on specified airplane surfaces (Ice Protection HWG);

• Recommendation revising the Class B cargo compartments and establishing standards for a new Class F cargo compartment; and

• Technical reports drafted under the fast track process by the Human Factors, Loads and Dynamics, Mechanical Systems, and Avionics Systems HWG's.

Additionally, there will be a discussion/review of FAA-prepared documents that evolved from technical reports prepared by the System Design and Analysis HWG under the fast track process.

Attendance is open to the public, but will be limited to the space available. Visitor badges are required to enter Boeing Building 10-16. Please confirm your attendance with Norm Turner, (425) 234-3312, or by e-mail—norman.g.turner@Boeing.com.—and provide the following information: full legal name, country of citizenship, and company that you represent, if applicable. Please arrive 15 minutes early to avoid any problems with parking or badges.

The public must make arrangements by June 22 to present oral statements at the meeting. Written statements may be presented to the committee at any time by providing 25 copies to the Assistant Executive Director for Transport Airplane and Engine issues or by providing copies at the meeting. Copies of the documents to be approved may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC, on June 6, 2001.
Brenda Courtney,
Acting Director, Office of Rulemaking.

[FR Doc. 01-15163 Filed 6-12-01; 2:26 pm]

BILLING CODE 4910-13-M